RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Vocational Report; OMB 3220-0141.

Section 2 of the Railroad Retirement Act (RRA) provides for payment of disability annuities to qualified employees and widow(ers). The establishment of permanent disability for work in the applicant's “regular occupation” or for work in any regular employment is prescribed in 20 CFR 220.12 and 220.13 respectively.

The RRB utilizes Form G-251, Vocational Report, to obtain an applicant's work history. This information is used by the RRB to determine the effect of a disability on an applicant's ability to work. Form G-251 is designed for use with the RRB's disability benefit application forms and is provided to all applicants for employee disability annuities and to those applicants for a widow(er)'s disability annuity who indicate that they have been employed at some time.

The RRB recently received short-term approval of a Request for Emergency Clearance from the Office of Management and Budget for this information collection. In response to that request the RRB received comments from 3 railroad labor organizations commenting on the RRB's action. The comments centered on the collection of information associated with the following items:

• Item 12, “Describe the essential duties of the position”: Comments received preferred the use of the term “basic” rather than “essential” stating the use of “essential” duties “is subjective, and could mislead an employee to inadvertently fail to list something that may be significant to the Board's examiner.”

• Item 13, “Describe the environmental conditions that the position exposes you to”: Comments received preferred the use of the term “hazards” rather than “conditions” stating that the use of the term “conditions” may lead the employee respondent and the RRB claim examiners to different conclusions simply by changing the terms used, i.e., “a hazard explains a present danger, or more importantly, a risk to the employee's life, health or safety. A condition, on the other hand, could be anything that either carries risk with it or is benign in nature.”

• Item 14, “Indicate below the kind and amount of physical activity this job involved during a typical 8-hour workday”: Comments received stated that many railroad operating employees do not have a routine day or typical work day and that the question does not adequately provide for employees “who are subject to duty periods of 12 hours.”

• Item 15, “Has your employer made permanent adjustments to this job to accommodate you”: Comments ranged from the question “asks an employee to speculate on the kind of accommodations an employer has made to accommodate them” to “employees may receive informal or temporary accommodations that do not rise to the level of a permanent accommodation.” Additional comments expressed concern that RRB examiners may interpret non-permanent accommodations as an indicator that an employee may not have a disability.

RRB staff responded to the railroad labor organizations' comments, specifically with regard to:

• Item 12: Whereas it was acknowledged that the use of either term “essential” or “basic” can be subjective, the RRB decided to use the term “essential” to address any allegations that the RRB awards disability benefits to individuals if they are incapable of performing a simple non-essential task. If a duty is unintentionally omitted, the RRB believes the information requested in subsequent questions 13 and 14 will capture that information. Lastly, the RRB assured commenters that the appropriate legal standard will be applied when adjudicating a disability application.

• Item 13: Use of the term “conditions” provides an RRB claims examiner with all the environmental conditions that an applicant is exposed to, not just the environmental hazards. It is intended to be inclusive and capture the essence of all experiences at work, whether they are hazardous or benign in nature.

• Item 14: The purpose of the question is to provide the RRB examiner with an understanding of the types of physical activities required in the performance of the applicant's jobs. The RRB uses 8 hours as the typical work schedule to estimate the hours worked daily by an employee. However, the instructions to Item 14 provide the employee the option to check the exact number of hours worked daily.

• Item 15: A work accommodation can be relevant in determining whether an individual is disabled. The RRB determined, consistent with RRB Legal Opinion 98-15, that accommodations are to be taken into consideration if they are essential to the performance of the employee's particular occupation and only if the accommodated job was performed consistently for at least 5 years. Item 15, allows the RRB to gather specific information about whether accommodations provided should be considered in accordance with Legal Opinion 98-15. Applicants are not asked to speculate about accommodations, but to provide information about accommodations actually put into effect.

After a careful and thorough evaluation of the comments received, the RRB is now moving forward with a standard renewal of the information collection. No changes are proposed to Form G-251. Completion is required to obtain or retain a benefit. One response is requested of each respondent.

Estimate of Annual Respondent Burden
Form No. | Annual responses | Time (minutes) | Burden (hours)
G-251 (with assistance) | 5,730 | 40 | 3,820
G-251 (without assistance) | 270 | 50 | 225
Total | 6,000 |  | 4,045

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2016-20675 Filed 8-26-16; 8:45 am]

BILLING CODE 7905-01-P